NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 17, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: records.mgt@nara.gov.

FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Defense, National Geospatial-Intelligence Agency (N1-537-03-8, 18 items, 17 temporary items). Aeronautical charting and flight information files. Also included are electronic copies of documents created using word processing and electronic mail. Proposed for permanent retention are recordkeeping copies of air targeting materials maintained by the office assigned functional program responsibility. This schedule authorizes the agency to apply the proposed disposition instructions to any recordkeeping medium.

2. Department of Education, Federal Student Aid, (N1-441-05-2, 2 items, 2 temporary items). Postsecondary closed school files. Included are such records as closed school notices, communications with internal program offices and external agencies, general and congressional correspondence, information about school operations and practices, and electronic copies of documents created using electronic mail and word processing.

3. Department of Justice, Criminal Division (N1-60-05-3, 5 items, 2 temporary items). Inputs and outputs of the Division's automated case tracking system, which contains information on the status of cases, defendants, charges, sentences, and appeals. Proposed for permanent retention are master files, including a public-use version, and the system documentation.

4. Department of State, Bureau of Consular Affairs (N1-59-04-2, 45 items, 39 temporary items). Diazo microfilm of passport applications and vital records files and optical disk and microfilm versions of Panama Canal Zone birth and death certificates. This schedule also modifies descriptions and retention periods for numerous passport-related records that were previously approved for disposal, such as passport authorization records, fee-related records, general passport correspondence, and the master lookout, name check, and issuance systems. Proposed for permanent retention are recordkeeping copies of passport subject files and vital records files, including original Panama Canal Zone birth and death certificates.

5. Department of State, Agency-wide (N1-59-05-9, 12 items, 12 temporary items). Routine, fragmentary, and duplicative files identified during review of office files with terminal dates from 1962 through 1982. Records come from the Bureau of African Affairs, the Bureau of Inter-American Affairs, the Bureau of East Asian and Pacific Affairs, the Bureau of Economic and Business Affairs, the Bureau of European Affairs, the Inspector General for Foreign Assistance, the Bureau of Intelligence and Research, the Office of the Legal Adviser, the Bureau of Near Eastern and South Asian Affairs, the Bureau of Oceans and International Environmental and Scientific Affairs, the Bureau of Politico-Military Affairs, and the Law of the Sea Negotiation Staff.

6. Department of State, Office of the Chief Special Agent (N1-59-05-10, 4 items, 1 temporary item). Records relating to arrivals into and departures from the United States that were accumulated by a long-defunct agency office. Proposed for permanent retention are recordkeeping copies of records relating to passport and visa matters and miscellaneous files.

7. Department of State, Bureau of Consular Affairs (N1-59-05-11, 6 items, 5 temporary items). Records of the Passport Services Special Issuance Agency, including control logs, copies of applications, and a tracking system used for selected duplicate passport information. Also included are electronic copies of records created using electronic mail and word processing. Proposed for permanent retention are recordkeeping copies of policy/subject files.

8. Department of Transportation, Federal Motor Carrier Safety Administration (N1-557-05-13, 7 items, 7 temporary items). Records associated with the Office of Communications' Safety Violations and Consumer Complaint Hotline Database, which is used to track complaints received by the agency. Included are master data files, paper and electronic input records, system documentation, and outputs. Also included are electronic copies of records created using electronic mail and word processing.

9. Department of the Treasury, Financial Management Service (N1-425-05-2, 6 items, 6 temporary items). Subject files, training materials, and access documentation relating to computer security. Also included are electronic copies of records created using electronic mail and word processing.

10. Department of the Treasury, Agency-wide (N1-56-05-4, 3 items, 3 temporary items). Forms used to certify that departing employees have not improperly removed documents when they separate from the agency.

11. Department of the Treasury, Internal Revenue Service (N1-58-05-1, 6 items, 6 temporary items). Forms submitted by state housing agencies, taxpayers, and low-income housing providers pertaining to the low-income housing credit program.

12. Department of Veterans Affairs, Veterans Health Administration (N1-15-05-1, 8 items, 8 temporary items). Inputs, outputs, master files, and documentation associated with an electronic system that contains information relating to individuals with spinal cord injuries and disorders, such as name, social security number, date of birth, and nature of injury/disorder. Also included are electronic copies of records created using electronic mail and word processing.

13. National Archives and Records Administration, Office of Records Services—Washington, DC (N2-220-05-1, 1 item, 1 temporary item). Records accumulated by the White House Conference on Families, 1976-80, consisting of voting records for three conferences held during this period. These electronic records were previously accessioned into the National Archives but lack technical documentation and cannot be interpreted.

14. National Archives and Records Administration, Office of Records Services—Washington, DC (N1-64-05-7, 4 items, 4 temporary items). Records relating to accessioning files of Special Prosecutors and Independent Counsels, including correspondence, memorandums, notes, delivery/receipt forms, copies of finding aids and dockets, and general subject files. Also included are electronic copies of records created using electronic mail and word processing.

15. National Archives and Records Administration, Office of Records Services—Washington, DC (N1-64-05-8, 4 items, 2 temporary items). Electronic copies of records created using electronic mail and word processing that pertain to administering the President John F. Kennedy Assassination Records Collection. Proposed for permanent retention are recordkeeping copies of these files. Included are such records as forms and other records documenting the transfer of records to NARA, finding aids, subject files, and briefing papers.

Dated: April 22, 2005.
Michael J. Kurtz,
Assistant Archivist for Records Services—Washington, DC.

[FR Doc. 05-8769 Filed 5-2-05; 8:45 am]

BILLING CODE 7515-01-P